DEPARTMENT OF AGRICULTURE

Commodity Credit Corporation

Types and Quantities of Agricultural Commodities Available for Donation Overseas Under Section 416(b) of the Agricultural Act of 1949, as Amended, in Fiscal Year 2003

AGENCY: Commodity Credit Corporation, USDA.

ACTION: Notice.

SUMMARY: On October 25, 2002, the President, Commodity Credit Corporation (CCC), who is the Under Secretary of Agriculture for Farm and Foreign Agricultural Services, determined that 200,000 metric tons of nonfat dry milk in CCC inventory will be made available for donation overseas under section 416(b) of the Agricultural Act of 1949, as amended (“section 416(b)”), during fiscal year 2003. This amount will be in addition to the 5,450 metric tons that will be shipped overseas during fiscal year 2003 to fulfill commitments made by CCC in agreements entered into by CCC under section 416(b) during fiscal year 2002.

FOR FURTHER INFORMATION CONTACT: William Hawkins, Director, Program Administration Division, FAS, USDA, (202) 720-3241.

Dated: October 28, 2002.
A. Ellen Terpstra,
Vice President, Commodity Credit Corporation.

[FR Doc. 02-27811 Filed 10-30-02; 8:45 am]

BILLING CODE 3410-10-M